DEPARTMENT OF LABOR

Employment and Training Administration

Notice of Determinations Regarding Eligibility To Apply for Worker Adjustment Assistance and MAFTA Transitional Adjustment Assistance

In accordance with section 223 of the Trade Act of 1974, as amended, the Department of Labor herein presents summaries of determinations regarding eligibility to apply for trade adjustment assistance for workers (TA-W) issued during the period of February and March, 2001.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,575; Rossville Chromatex, Plant #2, Div. of Culp, Inc., West Hazelton, PA

TA-W-38,397; Owens-Brockway, Glass Container, Brockway, PA

TA-W-38,624; Johnstown America corp., Franklin and Shell Plants, Johnstown, PA

TA-W-38,374; Owens-Brockway, Glass Container, Brockway, PA

TA-W-38,492; Wellman of Mississippi, Inc., Pearl River Plant, Bay St. Louis, MS

TA-W-38,294; Cyprus Thompson Creek Mining Co., Clayton, ID

TA-W-38,550; Pottstown Precision Casting, Inc., Harvard Industries, Inc., Formerly Known as Doehler Jarvis, Stowe, PA

TA-W-37,976; S and S Glass Specialties, Inc., Wauseon, OH

TA-W-38,630; North Douglas Wood Products, Inc., Drain, OR

TA-W-38,368; Crown Pacific Limited Partnership Coeur D'Alene, ID

TA-W-38,422; LTV Steel Corp., Aliquippa Works, Tin Mill Dept., Aliquippa, PA

In the following cases, the investigations revealed that the criteria for eligibility have not been met for the reasons specified.

The workers firm does not produce an article as required for certification under section 222 of the Trade Act of 1974.

TA-W-38,538; Southern Oregon Log Scaling and Grading Bureau, Roseburg, OR

TA-W-38,637; SPX Corp., Service solutions, Jackson, MI

TA-W-38,610; Kodak Polychrome Graphics, LLC (“KPG”), Research and Development Carlstadt, NJ

TA-W-38,660; VF Imagewear (West), Inc., Todd Uniforms, Henning, TN

Increased imports did not contribute importantly to worker separations at the firm.

TA-W-38,390; Eaton Corp., Mobile Hydraulic Div., Carol Stream, IL

TA-W-38,372; Alcoa Lebanon Works, Lebanon, PA

TA-W-38,545; Sappi Fine Paper Co., North America, Muskegon, MI

TA-W-38,663; Johnson Electric Automotive, Inc., Brownsville, TX

TA-W-38,556; Con-Vey Keystone, Inc., Roseburg, OR

TA-W-38,498; Ingersoll Co., Mayfield, KY

TA-W-38,478; Mother Parker's Tea and Coffee, Inc., Amherst, NY

TA-W-38,589; Collins & Aikman Automotive Interior Systems, Canton, OH

TA-W-38,509; Brown Packing Co., Inc., Little Rock, AR

TA-W-38,386 & A; Unocal, Sugarland, TX and Lafayette, LA

TA-W-38,380; Rexam Medical Packaging, Mt. Holly, NJ

TA-W-38,528; Griffin Wheel Co., Bessemer, AL

TA-W-38,501; Photobit Corp., Pasadena, CA

TA-W-38,301; York International Unitary Products Group, Elyria, OH

TA-W-38,539; Spreckels Sugar Co., Div. of Imperial Sugar Co., Tracy, CA

TA-W-38,559; Spreckels Sugar Co., Div. of Imperial Sugar Co., Woodland, CA

TA-W-38,295; Bobst Group, Inc., Engineering Dept., Roseland, NJ

TA-W-38,503; Turner Industries II, Ltd., Mayfield, KY

TA-W-38,597; Commonweaalth Aluminum, Lewisport, KY

The investigation revealed that criteria (2) has not been met. Sales or production did not decline during the relevant period as required for certification.

TA-W-38,584; Millennium Plastic Technologies, LLC, El Paso, TX

The investigation revealed that criteria (1) and criteria (3) have not been met. A significant number or proportion of the workers did not become totally or partially separated from employment as required for certification. Increased imports did not contribute importantly to worker separations at the firm.

TA-W-38,560; Bayer Corp., Consumer Care Div., Elkhart, IN

Affirmative Determinations for Worker Adjustment Assistance

The following certifications have been issued; the date following the company name and location of each determination references the impact date for all workers of such determination.

TA-W-38,400; Potlatch Corp., Cloquet, MN: November 27, 1999.

TA-W-38,464; Carolina Narrow Fabric Co., Sparta, NC: December 6, 1999.

TA-W-38,619; Schumacher Electric Corp., Rensselaer, IN: January 15, 2000.

TA-W-38,647; Milacron Resin Abrasives, Inc., Carlisle, PA: January 26, 2000.

TA-W-38,392; Hagale Industries, Inc., Ava, MO: October 27, 1999.

TA-W-38,353; Langston Corp., Cherry Hill, NJ: November 6, 1999.

TA-W-38,700; Challenger Electric Co., Pageland, SC: February 2, 2000.

TA-W-38,690; C-Cor.Met Corp., State College, PA: February 6, 2000.

TA-W-38,657; Lanier Clothes, Greenville, GA: February 19, 2001.

TA-W-38,302; Ohaus Corp., Florham Park, NJ: October 25, 1999.

TA-W-38,678; Monona Wire Corp., Wauzeka, WI: January 31, 2000.

TA-W-38,659; Motorola Energy Systems Group, Lawrenceville, GA: January 26, 2000.

TA-W-38,665; Victor Equipment Co., Denton, TX: January 30, 2000.

TA-W-38,460; Crompton and Knowles Color, Inc., Nutley, NJ: December 5, 1999.

TA-W-38,526; Victor Equipment Co., Abilene, TX: December 21, 1999.

TA-W-38,155; ESCO Corp., San Diego, CA: September 15, 1999.

TA-W-38,420; Apex Systems, Inc., Colorado Springs, CO: November 28, 1999.

TA-W-38,346; Flowserve Corp., Temecula, CA: November 15, 1999.

TA-W-38,325; Posies, Inc, Rockport, ME: November 3, 1999.

TA-W-38,326; Encore Textiles, Inc., Monroe, NC: October 31, 1999.

TA-W-38,704: Accuride Corp., Henderson, KY: February 1, 2000.

TA-W-38,608 & A; Wundies Enterprises, Inc., Wellsboro, PA: October 16, 2000 and Williamsport, PA: December 10, 2000.

TA-W-38,577; Link-Belt Construction Equipment, Lexington, KY: January 10, 2000.

TA-W-38,416; WEP. LLC, Formerly Williamette Electric Products, Inc., Portland, OR: November 22, 1999.

TA-W-38,348 & A, B, C, D; National Spinning Co., Inc., Washington, NC, Warsaw, NC, Whiteville, NC, Beulaville, NC and New York, NY: November 13, 1999.

TA-W-38,362; LTV Steel Co., Inc., Cleveland, OH: January 28, 2001.

TA-W-38,406; Philadelphia Gear Corp., King of Prussia, PA: November 27, 1999.

TA-W-38,620; TDK Electronics Corp., Peachtree City, GA: January 17, 2000.

TA-W-38,347; Cold Metal Products, Inc., Cold Rolling and Annealing Dept, New Britain, CT: November 9, 1999.

TA-W-38,387; Indigo Concepts, Vernon, CA: November 21, 1999.

TA-W-38,415; Remley and Co., Inc., Albion, NY: November 30, 1999.

TA-W-38,452; ARA Cutting LC, Miami, FL: December 6, 1999.

TA-W-38,463; Quality Veneer and Lumber, Aberdeen, WA: December 7, 1999.

TA-W-38,617 & A; Garan Manufacturing Corp., Carthage MS and Eupora, MS: January 19, 2000.

TA-W-38,446; Sherwood Dash USA, Rancho Cucamonga, CA: December 4, 1999.

TA-W-38,555 & A; Tee Jays Manufacturing Co., Inc., Plants 1, 5, 9, 4 and 15, Florence, AL and Plant #16, Elgin, AL: January 3, 2000.

TA-W-38,334; General Magnetic, Dallas, TX: November 6, 1999.

TA-W-38,643; Three G's, Mfg Co., Inc., Crossville, TN: January 29, 2000.

TA-W-38,279; Elmer's Products, Inc., Bainbridge, NY: October 23, 1999

TA-W-38,587; & A; VF Imagewear (West), Inc., Russellville, KY: and Lewisburg, KY: January 19, 2000.

TA-W-38,389 Woodbury Manufacturing, Inc., Woodbury, GA: November 20, 1999.

TA-W-38,611; Leach International, Buena Park, CA: January 16, 2000.

TA-W-38,655; Autoliv ASP, Inc., Autoliv American Components Including Leased Workers of Adecco Staffing Service, Ogden, UT. All workers of Autoliv ASP, Inc., Autoliv American Components, including leased workers of Adecco Staffing Service Ogden, UT engaged in employment related to the production of filter assemblies on or after January 13, 2000. All workers of Autoliv ASP, Inc., Autoliv American Components including leased workers of Adecco Staffing Service, Ogden, UT engaged in the production of lead wire assemblies are denied.

Also, pursuant to Title V of the North American Free Trade Agreement Implementation Act (P.L. 103-182) concerning transitional adjustment assistance hereinafter called (NAFTA-AA) and in accordance with section 250(a), Subchapter D, Chapter 2, Title II, of the Trade Act as amended, the Department of Labor presents summaries of determinations regarding eligibility to apply for NAFTA-TAA issued during the month of February and March, 2001.

In order for an affirmative determination to be madeé and a certification of eligibility to apply for NAFTA-TAA the following

(1) That a significant number or proportion of the workers in the workers' firm, or an appropriate subdivision thereof, (including workers in any agricultural firm or appropriate subdivision thereof) have become totally or partially separated from employment and either—

(2) That sales or production, or both, or such firm or subdivision have decreased absolutely,

(3) That imports from Mexico or Canada of articles like or directly competitive with articles like or directly competitive with articles produced by such firm or subdivision have increased, and that the increases in ports contributed importantly to such workers' separations or threat of separation and to the decline in sales or production of such firm or subdivision; or

(4) That there has been a shift in production by such workers' firm or subdivision to Mexico or Canada of articles like or directly competitive with articles which are produced by the firm of subdivision.

Negative Determination NAFTA-TAA

In each of the following cased the investigation revealed that criteria (3) and (4) were not met. Imports from Canada or Mexico did not contribute importantly to workers' separations. There was no shift in production from the subject firm to Canada or Mexico during the relevant period.

NAFTA-TAA-04435; Bayer Corp., Consumer Care Div., Elkhart, IN

NAFTA-TAA-04462; Halliburton, Dresser Wayne Div., Salisbury, MD

NAFTA-TAA-04390; Carolina Narrow Fabric Co., Sparta, NC

NAFTA-TAA-04477; North Douglas Wood Products, Inc., Drain, OR

NAFTA-TAA-04322; Crown Pacific Limited Partnership, Coeur D'Alene, ID

NAFTA-TAA-04406; Sappi Fine Paper Co., North America, Muskegon, MI

NAFTA-TAA-04337; Potlatch Corp., Cloquet, MN

NAFTA-TAA-04398; Spreckels Sugar Co. Div. of Imperial Sugar Co., Tracy, CA

NAFTA-TAA-04352; LTV Steel Corp., Aliquippa Works, Tin Mill Dept., Aliquippa, PA

NAFTA-TAA-04327; Hagale Industries, Inc., Ava, MO

NAFTA-TAA-04370; Langston Corp., Cherry Hill, NJ

NAFTA-TAA-04428; Con-Vey Keystone, Inc., Rosenberg, OR

NAFTA-TAA-04415; Brown Packing Co., Inc., Little Rock, AR

NAFTA-TAA-04540; Rossville Chromatex, Plant 2, Div. of Culp, Inc., West Hazelton, PA

NAFTA-TAA-04323; Owens-Brockway, Glass Containers, Brockway, PA

NAFTA-TAA-04479; Budge Industries, Inc., Telford, PA

NAFTA-TAA-04467; Benel Manufacturing, Inc., Dunn, NC

NAFTA-TAA-04347; Owens-Brockway, Glass Containers, Lakeland, FL

NAFTA-TAA-04447; Commonwealth Aluminum, Lewisport, KY

NAFTA-TAA-04437; Bianca Sportswear, Inc., Copiague, NY

NAFTA-TAA-04414; Commerce Plastic, Inc., Commerce, GA

NAFTA-TAA-04476; Horix Manufacturing Co., McKees Rocks, PA

NAFTA-TAA-04608; Kazoo, Inc., San Antonio, TX

NAFTA-TAA-04471; Texprint (GA.), Inc., Macon, GA

NAFTA-TAA-04383; Saputo Cheese USA, Inc., Monroe, WI

NAFTA-TAA-04354; Akzo-Nobel Aerospace Coatings, Inc., Brownsville, TX

NAFTA-TAA-04552; Motorola Energy Systems Group, Harvard, IL

NAFTA-TAA-04487; Southdown, Inc., Wampum Cement Plant, Wampum, PA

NAFTA-TAA-045275; Flint Ink Corp., West St. Paul. MN

NAFTA-TAA094375; NTN-BCA Corp., Litiz, PA

The investigation revealed that the criteria for eligibility have not been met for the reasons specified.

The investigation revealed that workers of the subject firm did not produce an article within the meaning of section 250(a) of the Trade Act, as amended.

NAFTA-TAA-04485; SPX Corp., Service Soluctions, Jackson, MI

NAFTA-TAA-04492 & A; VF Imagewear (West), Inc., Todd Uniforms, Henning, TN and Ripley, TN

The investigation revealed that criteria (2) has not been met. Sales or production, or both, of such firm or subdivision did not decrease during the relevant period.

NAFTA-TAA-04452; Millennium Plastic Technologies, LLC, El Paso, TX

Affirmative Determinations NAFTA-TAA

NAFTA-TAA-04278; Encore Textiles, Inc., Monroe, NC: October 23, 1999.

NAFTA-TAA-04304; Flowserve Corp., Temecula, CA: November 15, 1999.

NAFTA-TAA-04346; WEP, LLC, Formerly Willamette Electric Products, Inc., Portland, OR: November 22, 1999.

NAFTA-TAA-04495; Johnson Electric Automotive, Inc., Brownsville, TX: January 26, 2000.

NAFTA-TAA-04506; Milacron Resin Abrasives, Inc., Carlisle, PA: January 26, 2000.

NAFTA-TAA-04321; Atlas Bag, Des Plaines, IL: November 2, 1999.

NAFTA-TAA-04475 & A; VF Imagewear (West), Inc., Russellville, KY and Lewisburg, KY: January 18, 2000.

NAFTA-TAA-04378; Eaton Corp., Mobile Hydraulics Div., Carol Stream, IL: November 30, 1999.

NAFTA-TAA-04518; Cardinal Brands, Inc., Eagle OPG-Z Bag Div., Smithfield, UTL: February 1, 2000.

NAFTA-TAA-04520; Borden Chemical, Inc., Forest Products Div., (Formerly The P&IP Div.), Kent, WA: January 22, 2001.

NAFTA-TAA-04511; Three G's Mfg. Co., Inc., Crossville, TN: January 29, 2000.

NAFTA-TAA-04474; Schumacher Electric Corp., Rensselaer, IN: January 17, 2000.

NAFTA-TAA-04283; Rockwell Automation, Department 255, Milwaukee, WI: November 1, 1999.

NAFTA-TAA-04496; Challenger Electric Co., Pageland, SC: January 16, 2000.

NAFTA-TAA-04525; C-Cor. Net Corp., State College, PA: February 6, 2000.

NAFTA-TAA-04504; Motorola Energy Systems Group, Lawrenceville, GA: January 26, 2000.

NAFTA-TAA-04494; Victor Equipment Co., Denton, TX: January 30, 2000.

NAFTA-TAA-04275; Autoliv, ASP, Inc., Cushion Manufacturing Facility, Ogden, UT; November 6, 1999.

NAFTA-TAA-04508; Monona Wire Corp., Wauzeka, WI: December 30, 1999.

NAFTA-TAA-04420 & A; Jefferson Apparel, Jefferson, NC and Maid Bess Corp., Salem, VA: December 18, 1999.

NAFTA-TAA-04529; International Paper, Shorewood Packaging Div., Cincinnati, OH: January 13, 2000.

NAFTA-TAA-04491; Raven Industries, Sioux Falls, SD: January 26, 2000.

NAFTA-TAA-04463; American Standard, Inc., Trenton, NJ: January 10, 2000.

NAFTA-TAA-04486; Owens and Hurst Lumber Co, Inc., Eureka, MT: January 17, 2000.

NAFTA-TAA-04579; Axiohm Transaction Solutions, IPB Div., Ithaca, NY: February 5, 2000.

NAFTA-TAA-04561; Dearborn Brass, Tyler, TX: February 4, 2000.

NAFTA-TAA-04526; Kay Tronic Corp., Including Leased Workers of Humanix Temporary Services, Spokane, WA: February 8, 2000.

NAFTA-TAA-04484; Hayes Lemmerz International, Automotive Brake Components, Homer, MI: January 19, 2000.

I hereby certify that the aforementioned determinations were issued during the month of February and March, 2001. Copies of these determinations are available for inspection in Room C-5311, U.S. Department of Labor, 200 Constitution Avenue, NW., Washington, DC 20210 during normal business hours or will be mailed to persons who write to the above address.

Dated: March 26, 2001.
Edward A. Tomchick,
Director, Division of Trade Adjustment Assistance.

[FR Doc. 01-8339 Filed 4-4-01; 8:45 am]

BILLING CODE 4510-30-M